DEPARTMENT OF DEFENSE

Department of the Army; Corps of Engineers

Intent to Prepare a Supplement to the Final Environmental Statement for the Area VI (Elm Fork of the North Fork of the Red River) Portion of the Red River Chloride Control Project, Texas and Oklahoma

AGENCY: Department of the Army, U.S. Army Corps of Engineers, DoD.

ACTION: Notice of intent.

SUMMARY: The purpose of the Supplement to the Final Environmental Statement (SFES) is to address alternatives and modifications to the authorized plan for chloride control at Area VI on the Elm Fork of the North Fork of the Red River, OK.

ADDRESSES: Questions or comments concerning the proposed action should be addressed to Mr. Stephen L. Nolen, Chief, Environmental Analysis and Compliance Branch, Tulsa District, U.S. Army Corps of Engineers, CESWT-PE-E, 1645 S. 101st E. Ave, Tulsa, OK 74128-4629.

FOR FURTHER INFORMATION CONTACT: Mr. Stephen L. Nolen, (918) 669-7660, fax: (918) 669-7546, e-mail: Stephen.L.Nolen@usace.army.mil.

SUPPLEMENTARY INFORMATION: The Area VI portion was authorized as part of a larger chloride control project by the Flood Control Act of 1966, approved November 7, 1966, (Pub. L. 89-789), SD 110; as modified by the Flood Control Act approved December 31, 1970, (Pub. L. 91-611); as amended by the Water Resources Development Acts of 1974 (Pub. L. 93-251) and 1976 (Pub. L. 94-587). Section 1107 of the Water Resources Development Act of 1986 amended the above authorization to separate the overall project into the Arkansas River Basin and the Red River Basin and authorized the Red River Basin for construction subject to a favorable report by a review panel on the performance of Area VIII. The review panel submitted a favorable report to the Public Works Committee of the House and Senate in August 1988 indicating that Area VIII was performing as designed. The portion of the authorized project on the Elm Fork of the North Fork of the Red River in southwestern Oklahoma consists of Area VI. The authorized plan consisted of collection of brines emitted from three box canyons flowing to the Elm Fork of the North Fork of the Red River and transport of these brines via pipeline to a brine storage surface impoundment.

Reasonable alternatives to be considered include various combinations of plans for deep well injection, collection facilities, size and locations of brine storage surface impoundment(s), pipeline sizes and routes, and no action.

Significant issues to be addressed in the SFES include: (1) Hydrological, biological, and water quality issues concerning fish, aquatic invertebrates, algae, aquatic macrophytes, wetland/riparian ecosystem of the Elm Fork of the North Fork and North Fork of the Red River, and Red River above Lake Texoma to the confluence of the North Fork of the Red River; (2) a Lake Texoma component including chloride/turbidity relationships, chloride/fish reproduction issues, chloride/plankton community issues, chloride/nutrient dynamic issues, and associated impacts on lake sport fishes and recreation; (3) a selenium (Se) component addressing Se concentrations and impacts on biota; (4) cumulative effects related to portions of the Red River Chloride Control Project (RRCCP) already constructed and those approved for construction in the Wichita River Basin of Texas; (5) habitat mitigation issues; (6) Section 401 water quality issues; (7) impacts on the commercial bait fishery of the upper Red River; (8) Federally-listed threatened and endangered species; (9) cultural resources; and (10) unquantifiable/undefined impacts.

Scoping meetings for the project are anticipated to be conducted in late summer, 2006. News releases informing the public and local, state, and Federal agencies of the proposed action will be published in local newspapers. Comments received as a result of this notice and the news releases will be used to assist the Tulsa District in identifying potential impacts to the quality of the human or natural environment. Affected Federal, State, or local agencies, affected Indian tribes, and other interested private organizations and parties may participate in the scoping process by forwarding written comments to (see ADDRESSES) or attending the scoping meetings.

The draft SFES is expected to be available for public review and comment sometime in 2009. In order to be considered, any comments and suggestions should be forwarded to (see ADDRESSES) in accordance with dates specified upon release of the draft SFES.

Dated: May 30, 2006.
Miroslav P. Kurka,
Colonel, U.S. Army, District Engineer.

[FR Doc. 06-5336 Filed 6-12-06; 8:45 am]

BILLING CODE 3710-39-M